DEPARTMENT OF ENERGY

Federal Energy Regulatory Commission

Combined Notice of Filings #1

Take notice that the Commission received the following exempt wholesale generator filings:

Docket Numbers: EG26-56-000.

Applicants: Palo Duro Energy Storage, LLC.

Description: Palo Duro Energy Storage, LLC submits Notice of Self-Certification of Exempt Wholesale Generator Status.

Filed Date: 11/18/25.

Accession Number: 20251118-5212.

Comment Date: 5 p.m. ET 12/9/25.

Docket Numbers: EG26-57-000.

Applicants: Panhandle Energy Storage, LLC.

Description: Panhandle Energy Storage, LLC submits Notice of Self-Certification of Exempt Wholesale Generator Status.

Filed Date: 11/18/25.

Accession Number: 20251118-5214.

Comment Date: 5 p.m. ET 12/9/25.

Docket Numbers: EG26-58-000.

Applicants: Roswell Energy Storage, LLC.

Description: Roswell Energy Storage, LLC submits Notice of Self-Certification of Exempt Wholesale Generator Status.

Filed Date: 11/18/25.

Accession Number: 20251118-5218.

Comment Date: 5 p.m. ET 12/9/25.

Docket Numbers: EG26-59-000.

Applicants: Webb Road Energy Storage, LLC.

Description: Webb Road Energy Storage, LLC submits Notice of Self-Certification of Exempt Wholesale Generator Status.

Filed Date: 11/18/25.

Accession Number: 20251118-5221.

Comment Date: 5 p.m. ET 12/9/25.

Docket Numbers: EG26-60-000.

Applicants: Gaskell West Storage I LLC.

Description: Gaskell West Storage I LLC submits Notice of Self-Certification of Exempt Wholesale Generator Status.

Filed Date: 11/18/25.

Accession Number: 20251118-5224.

Comment Date: 5 p.m. ET 12/9/25.

Docket Numbers: EG26-61-000.

Applicants: Chaves Energy Storage, LLC.

Description: Chaves Energy Storage, LLC submits Notice of Self-Certification of Exempt Wholesale Generator Status.

Filed Date: 11/18/25.

Accession Number: 20251118-5225.

Comment Date: 5 p.m. ET 12/9/25.

Take notice that the Commission received the following electric rate filings:

Docket Numbers: ER10-2881-045; ER10-2882-044; ER10-2883-042; ER10-2884-042; ER16-2509-013; ER17-2400-014; ER17-2401-014; ER17-2404-014; ER17-2403-014.

Applicants: SP Pawpaw Solar, LLC, SP Sandhills Solar, LLC, SP Decatur Parkway Solar, LLC, SP Butler Solar, LLC, Rutherford Farm, LLC, Georgia Power Company, Mississippi Power Company, Southern Power Company, Alabama Power Company.

Description: Supplement to 10/03/2025, Notice of Change in Status of Alabama Power Company, et al.

Filed Date: 10/14/25.

Accession Number: 20251014-5367.

Comment Date: 5 p.m. ET 11/4/25.

Docket Numbers: ER25-2852-002.

Applicants: Edgecom Energy USA, Inc.

Description: Tariff Amendment: Edgecom Energy USA, Inc. Market-Based Rate Tariff Filing to be effective 12/1/2025.

Filed Date: 11/19/25.

Accession Number: 20251119-5061.

Comment Date: 5 p.m. ET 12/10/25.

Docket Numbers: ER26-544-000.

Applicants: Cartwright Solar I LLC.

Description: 205(d) Rate Filing: Cartwright Solar I LLC MBR Tariff to be effective 12/1/2025.

Filed Date: 11/18/25.

Accession Number: 20251118-5215.

Comment Date: 5 p.m. ET 12/9/25.

Docket Numbers: ER26-545-000.

Applicants: Woodward EHV Wind Interconnection, LLC.

Description: Request for Limited and Prospective Waiver, et al. of Woodward EHV Wind Interconnection, LLC.

Filed Date: 11/18/25.

Accession Number: 20251118-5226.

Comment Date: 5 p.m. ET 12/9/25.

Docket Numbers: ER26-546-000.

Applicants: PJM Interconnection, L.L.C.

Description: 205(d) Rate Filing: Amendment to ISA, Service Agreement No. 7010; Queue No. AF1-094 to be effective 1/19/2026.

Filed Date: 11/19/25.

Accession Number: 20251119-5042.

Comment Date: 5 p.m. ET 12/10/25.

Docket Numbers: ER26-547-000.

Applicants: Cheyenne Light, Fuel and Power Company.

Description: 205(d) Rate Filing: Filing of Standard LGIA with Chalk Bluffs Wind, LLC to be effective 10/28/2025.

Filed Date: 11/19/25.

Accession Number: 20251119-5071.

Comment Date: 5 p.m. ET 12/10/25.

Docket Numbers: ER26-548-000.

Applicants: PJM Interconnection, L.L.C.

Description: 205(d) Rate Filing: Amendment to ISA, SA No. 6879; Queue Nos. AD1-056/AD1-057 to be effective 1/19/2026.

Filed Date: 11/19/25.

Accession Number: 20251119-5110.

Comment Date: 5 p.m. ET 12/10/25.

Docket Numbers: ER26-549-000.

Applicants: PJM Interconnection, L.L.C.

Description: 205(d) Rate Filing: Amendment to ISA SA No. 6992; Queue No. AF2-361 to be effective 1/19/2026.

Filed Date: 11/19/25.

Accession Number: 20251119-5130.

Comment Date: 5 p.m. ET 12/10/25.

Docket Numbers: ER26-550-000.

Applicants: Duke Energy Carolinas, LLC.

Description: 205(d) Rate Filing: DEC-Kings Mountain Revised NITSA SA No. 363 to be effective 11/1/2025.

Filed Date: 11/19/25.

Accession Number: 20251119-5148.

Comment Date: 5 p.m. ET 12/10/25.

Take notice that the Commission received the following qualifying facility filings:

Docket Numbers: QF26-188-000

Applicants: CGC000 PROJECTCO, LLC.

Description: Form 556 of CGC000 PROJECTCO, LLC under QF26-188.

Filed Date: 11/18/25.

Accession Number: 20251118-5251.

Comment Date: 5 p.m. ET 12/9/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 19, 2025.
Carlos D. Clay,
Deputy Secretary.

[FR Doc. 2025-20729 Filed 11-21-25; 8:45 am]

BILLING CODE 6717-01-P